DEPARTMENT OF COMMERCE

National Oceanic and Atmospheric Administration

RIN: 0648-XP32

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Scientific and Statistical Committee (SSC), Golden Crab Advisory Panel, Wreckfish Advisory Panel, Limited Access Privilege Program (LAPP) Committee, Golden Crab Committee, SSC Selection Committee (Closed Session), a joint meeting of its Executive and Finance Committees, Dolphin/Wahoo Committee, Spiny Lobster Committee, Mackerel Committee, Advisory Panel Selection Committee (Closed Session), Standard Operating, Policy and Procedure (SOPPs) Committee, SouthEast Data, Assessment, and Review (SEDAR) Committee, Ecosystem-Based Management Committee, Snapper Grouper Committee, and a meeting of the full Council. The Council will conduct a workshop with the SSC and Golden Crab Advisory Panel (AP) and a separate workshop with the SSC and Wreckfish AP. The Council will also hold an informal public question and answer session with NMFS Regional Administrator and Council Chairman as well as an open public comment period relative to agenda items. See SUPPLEMENTARY INFORMATION for additional details.

DATES: The meeting will be held June 7-12, 2009. See SUPPLEMENTARY INFORMATION for specific dates and times.

ADDRESSES: The meeting will be held at the Hutchinson Island Marriott, 555 NE Ocean Boulevard, Stuart, FL 34996; telephone: (800) 775-5936 or (772) 225-3700; fax: (772) 225-0003. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION:

Meeting Dates

1. Golden Crab Advisory Panel and SSC Workshop: June 7, 2009, 9 a.m. until 10:30 a.m.

The Golden Crab Advisory Panel and SSC will review the biology of the golden crab and red crab fisheries, available data, and receive a presentation on the fishery from AP members.

2. Wreckfish Advisory Panel and SSC Workshop: June 7, 2009, 10:30 a.m. until 12 p.m.

The Wreckfish Advisory Panel and SSC will review the biology of wreckfish, available data, and receive a presentation on the fishery from the Wreckfish AP.

3. Scientific and Statistical Committee: June 7, 2009, 1:30 p.m. until 5 p.m.; June 8, 2009, 8:30 a.m. until 5 p.m.; and June 9, 2009, 8:30 a.m. until 5 p.m.

The SSC will receive updates on the status of Amendments 15B, 16 and 18 to the Snapper Grouper Fishery Management Plan (FMP), the Fishery Ecosystem Plan, the Comprehensive Ecosystem-Based Amendment 1, Amendment 18 to the Coastal Migratory Pelagics FMP, and the Comprehensive Annual Catch Limit (ACL) Amendment. The SSC will also review the Council's Research and Monitoring Plan and consider for approval. The SSC will receive presentations regarding the Acceptable Biological Catch (ABC) Control Rule, discuss applications, and finalize an ABC Control Rule document. The SSC will also receive an update on Amendment 17 to the Snapper Grouper FMP, discuss area closures, and receive a report regarding possible implementation of a monitoring plan under Amendment 17. The SSC will prepare a written report for presentation to the Council.

4. Golden Crab Advisory Panel Meeting: June 8, 2009, 8:30 a.m. until 10:30 a.m.

The Golden Crab Advisory Panel will discuss the Golden Crab and SSC Workshop, develop recommendations on Annual Catch Limits (ACLs) and Accountability Measures (AMs) and other management measures, and will receive an update and discuss the Golden Crab LAPP.

5. Wreckfish Advisory Panel Meeting: June 8, 2009, 10:30 a.m. until 12 p.m.

The Wreckfish Advisory Panel will discuss the Wreckfish and SSC Workshop, develop recommendations on ACLs and AMs, and discuss Amendment 18 wreckfish Individual Transferable Quota (ITQ) changes and develop recommendations.

6. LAPP Committee Meeting: June 8, 2009, 1:30 p.m. until 4 p.m.

The LAPP Committee will receive an update on meetings with the Golden Crab and Wreckfish Advisory Panels, review options and provide direction to staff.

7. Golden Crab Committee Meeting: June 8, 2009, 4 p.m. until 5:30 p.m.

The Golden Crab Committee will receive an update on meetings with the golden crab fishermen, review options and provide direction to staff.

8. SSC Selection Committee Meeting (Closed Session): June 9, 2009, 8:30 a.m. until 10 a.m.

The SSC Selection Committee will review membership, discuss policy issues, and develop recommendations as appropriate.

9. Joint Executive/Finance Committees Meeting: June 9, 2009, 10 a.m. until 11 a.m.

The Joint Executive and Finance Committee will meet jointly to review the status of Calendar Year (CY) 2009 Council funding and approve the CY 2009 budget.

10. Dolphin/Wahoo Committee Meeting: June 9, 2009, 11 a.m. until 12 p.m.

The Dolphin/Wahoo Committee will review options to be included in the Comprehensive ACL Amendment and provide guidance to staff.

11. Spiny Lobster Committee Meeting: June 9, 2009, 1:30 p.m. until 2:30 p.m.

The Spiny Lobster Committee will receive a report on the status of the work with the Gulf Council on the joint Spiny Lobster Amendment, review options and provide guidance to staff.

12. Mackerel Committee Meeting: June 9, 2009, 2:30 p.m. until 4 p.m.

The Mackerel Committee will receive a report on the status of the work with the Gulf Council on the joint Mackerel Amendment, review options, and provide direction to staff.

13. SOPPs Committee Meeting: June 9, 2009, 4 p.m. until 5:30 p.m.

The SOPPs Committee will review the proposed rule addressing Council SOPPs and develop comments. The Committee will develop changes to SOPPs as necessary.

NOTE: Interested persons will be provided the opportunity to present oral or written statements regarding matters on the Council agenda from 5:30 p.m. until 7 p.m.

14. Advisory Panel Selection Committee (Closed Session): June 10, 2009, 8:30 a.m. until 9:30 a.m.

The Advisory Panel Selection Committee will review applicants and develop recommendations.

15. SEDAR Committee Meeting: June 10, 2009, 9:30 a.m. until 10:30 a.m.

The SEDAR Committee will review the results of the SEDAR Steering Committee meeting and develop recommendations.

16. Ecosystem-Based Management Committee: June 10, 2009, 10:30 a.m. until 12 p.m.

The Ecosystem-Based Management Committee will review the National Environmental Policy Act (NEPA) and legal comments on the Fishery Ecosystem Plan (FEP) Comprehensive Ecosystem-Based Amendment 1 and develop recommendations. The Committee will also review options for the Comprehensive Ecosystem-Based Amendment 2 and provide direction to staff as well as receive a presentation on the South Atlantic Governor's Alliance.

17. Snapper Grouper Committee: June 10, 2009, 1:30 p.m. until 5 p.m.; June 11, 2009, 8:30 a.m. until 12 p.m.

The Snapper Grouper Committee will receive an update on Oculina monitoring activities, receive a report from the SSC, and receive a report on the status of the Red Snapper Interim Rule. The Committee will also receive a presentation of the red snapper rebuilding projections, review draft Snapper Grouper Amendment 17 and provide direction to staff, and approve Amendment 17 for public hearing (if possible). In addition, the Committee will review Snapper Grouper Amendment 18 options and provide direction to staff, review SSC recommendations on control rules, and review the Comprehensive ACL Amendment.

NOTE: There will be an informal public question and answer session with NOAA Fisheries Services' Regional Administrator and the Council Chairman, focusing on management issues relative to red snapper, on June 10, 2009 beginning at 5:30 p.m.

18. Council Session: June 11, 2009, 1:30 p.m. until 5 p.m. and June 12, 2009, 8:30 a.m. until 12:30 p.m.

Council Session: June 11, 1:30 p.m. until 5 p.m.

From 1:30 p.m. - 2 p.m., the Council will call the meeting to order, adopt the agenda, and approve the March 2009 meeting minutes.

From 2 p.m. - 2:30 p.m., the Council will receive a report on Florida's management of permit (Trachinotus falcatus) in federal waters.

From 2:30 p.m. - 3 p.m., the Council will receive an update on the Atlantic Sea Turtle Strategy.

From 3 p.m. - 3:30 p.m., the Council will receive an update on the National Marine Protected Area Program.

From 3:30 p.m. - 4 p.m., the Council will receive a report from the Ecosystem-Based Management Committee and take action as appropriate.

From 4 p.m. - 4:30 p.m., the Council will receive a report from the Snapper Grouper Committee and take action as appropriate.

From 4:30 p.m. - 4:45 p.m., the Council will receive a report from the LAPP Committee and take action as appropriate.

From 4:45 p.m. - 5 p.m., the Council will receive a report from the Golden Crab Committee and take action as appropriate.

Council Session: June 12, 2009, 8:30 a.m. until 12:30 p.m.

From 8:30 a.m. - 8:45 a.m., the Council will receive a report from the SSC Selection Committee and take action as appropriate.

From 8:45 a.m. - 9 a.m., the Council will receive a report from the Joint Executive/Finance Committee and take action as appropriate.

From 9 a.m. - 9:15 a.m., the Council will receive a report from the Dolphin/Wahoo Committee and take action as appropriate.

From 9:15 a.m. - 9:30 a.m., the Council will receive a report from the Spiny Lobster Committee and take action as appropriate.

From 9:30 a.m. - 9:45 a.m., the Council will receive a report from the Mackerel Committee and take action as appropriate.

From 9:45 a.m. - 10 a.m., the Council will receive a report from the Advisory Panel Selection Committee and take action as appropriate.

From 10 a.m. - 10:15 a.m., the Council will receive a report from the SOPPs Committee and take action as appropriate.

From 10:15 a.m. - 10:30 a.m., the Council will receive a report from the SEDAR Committee and take action as appropriate.

From 10:30 a.m. - 10:45 a.m., the Council will receive a report on the Council Coordinating Committee (CCC) meeting.

From 10:45 a.m. - 11:15 a.m., the Council will receive a status report from NOAA Fisheries Service on commercial quotas by fishing year for: Atlantic king mackerel, Gulf king mackerel (eastern zone), Atlantic Spanish mackerel, snowy grouper, golden tilefish, wreckfish, greater amberjack, South Atlantic Octocorals and dolphin (soft quota ratios), vermilion snapper, black sea bass, red porgy and gag. The Council will also receive a status report of Snapper Grouper Amendment 16, Protected Species Issues, VMS Compliance report from Law Enforcement, and review and develop recommendations on Experimental Fishing Permits as necessary.

From 11:15 a.m. - 11:45 a.m., the Council will receive status reports from NMFS Southeast Fisheries Science Center on the Data Collection and Stock Assessment Improvement Plans, a progress report on aging red and black grouper, 2007 and 2008 headboat data entry, and the status of recreational catches versus allocations where appropriate of the following species: Atlantic king mackerel and Spanish mackerel, black sea bass, golden tilefish, snowy grouper, red porgy, greater amberjack, dolphin, wahoo, vermilion snapper, gag, red snapper, mutton snapper, and yellowtail snapper.

From 11:45 a.m. - 12:30 p.m., the Council will receive agency and liaison reports, discuss other business and upcoming meetings.

Documents regarding these issues are available from the Council office (see ADDRESSES).

Although non-emergency issues not contained in this agenda may come before these groups for discussion, those issues may not be the subjects of formal final Council action during these meetings. Council action will be restricted to those issues specifically listed in this notice and any issues arising after publication of this notice that require emergency action under section 305 (c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by June 4, 2009.

Dated: May 13, 2009.
Tracey L. Thompson,
Acting Director, Office of Sustainable Fisheries, National Marine Fisheries Service.

[FR Doc. E9-11476 Filed 5-15-09; 8:45 am]

BILLING CODE 3510-22-S